DEPARTMENT OF TRANSPORTATION

Federal Highway Administration

[FHWA Docket No. FHWA-2010-0010]

Reclassification of Motorcycles (Two and Three Wheeled Vehicles) in the Guide to Reporting Highway Statistics

AGENCY: Federal Highway Administration (FHWA), DOT.

ACTION: Final Notice.

SUMMARY: This Notice announces the revision to FHWA's guidance regarding State reporting of motorcycle registration information disseminated to the public in FHWA's annual publication Guide to Reporting Highway Statistics. The intent of this action is to improve FHWA's motorcycle registration data to assist in the analysis of crash data relating to these vehicles. Thus, it is critical that the motorcycle registration data collected and published by FHWA is accurate, comprehensive, and timely. The FHWA's Guide to Reporting Highway Statistics (Guide) is the document that FHWA uses to instruct States about what data is required by FHWA to perform its mission of informing Congress, the highway community, and the general public on a wide variety of highway extent, condition, use, and performance measures.

DATES: Effective Date: 90 days after date of publication in the Federal Register.

FOR FURTHER INFORMATION CONTACT: Ralph Erickson, Highway Funding and Motor Fuels Team Leader, Office of Policy, HPPI-10, (202) 366-9235, or Adam Sleeter, Office of the Chief Counsel, (202) 366-8839, Federal Highway Administration, 1200 New Jersey Avenue, SE., Washington, DC 20590. Office hours are from 8 a.m. to 4:30 p.m. e.t., Monday through Friday, except Federal holidays.

SUPPLEMENTARY INFORMATION:

Electronic Access

An electronic copy of this document, the original notice, and comments received may be downloaded from the Office of the Federal Register's home page at: http://www.gpoaccess.gov/fr/index.html and the Government Printing Office's Web page at: http://www.gpoaccess.gov.

Background

The information collected in accordance with the Guide ¹ is authorized under 23 U.S.C. 315, which authorizes the Secretary of Transportation to prescribe and promulgate rules and regulations to carry out the requirements of Title 23 of the United States Code. Under 23 CFR 1.5, FHWA has the ability to request data that is used to relate highway system performance to investment under FHWA's strategic planning and performance reporting process in accordance with the requirements of the Government Performance and Results Act.² Additionally, 23 CFR 420.105(b) requires States to provide data that support FHWA's responsibilities to the Congress and the public. The Guide has approval from the Office of Management and Budget (OMB) under the control number 2125-0032.

¹ Guide, Chapter 3, Report Identifying Motor-Vehicle Registrations and Taxation, page 3-2.

² Government Performance and Results Act of 1993 (GPRA), Sec. 3 and 4, Public Law 103-62.

The FHWA's current definition of a motorcycle is two-fold: (1) Motorcycles, and (2) motor bicycles and scooters. The specific language for defining motorcycles, provided in FHWA's Guide, follows:

Item I.E.2. Motorcycles: This item includes two-wheeled and three-wheeled motorcycles. Sidecars are not regarded as separate vehicles—a motorcycle and sidecar are reported as a single unit.

Item I.E.3. Motor bicycles and scooters: Mopeds should be included with motor-driven cycles (motor bicycles) in the States that require their registration.

States annually report data to FHWA from their motor vehicle registration systems. As a result, such data is based on the definitions developed by States which may or may not approximate FHWA's definition of motorcycles, motor bicycles, scooters or personalized conveyances.

The FHWA researched State legislation (including the District of Columbia, but not Puerto Rico) for definitions of motorcycles and similar vehicles. We found several characteristics that specifically differentiated motorcycle-type vehicles from other vehicle types. Several States further defined the difference between motorcycles and mopeds, or in a few States, motor scooters. The characteristics for defining motorcycles included vehicles: With two to three wheels in contact with the ground (48 States), with a seat or saddle for the passenger(s) (36 States), with a sidecar or trailer (4 States), and with a steering handlebar (2 States). Additionally, one State defined motorcycles as having no enclosure on the vehicle for the operator (driver) or passenger.

The following characteristics were used by some States to define the difference between motorcycles, mopeds, and in a few cases, motor scooters: Speeds not in excess of 25 to 45 miles per hour (MPH) (3 States mention 25 MPH, 13 mention 30 MPH, 1 State each mentions 35 or 45 MPH); engine displacement of not greater than 50 to 150 cubic centimeters (cc) (21 States mention 50 cc, 1 State mentions 55 cc, and 1 State mentions 150 cc). Some States used brake horsepower (HP) instead of, or in addition to, displacement to identify vehicle power (4 States mention 1.5 HP, 12 mention 2.0 HP, 1 State mentions 2.7 HP, and 1 State mentions 5 HP). Wheel diameter for differentiating motorcycles and mopeds from motor scooters is mentioned by 5 States (2 States mention wheel diameter greater than 10 inches, 1 State mentions wheel diameter greater than 14 inches, and 2 States mention wheel diameter greater than 16 inches); and 4 States mentioned a platform or deck for a standing driver as a characteristic of a motor scooter.

History

The FHWA has collected motorcycle registration data since 1914. This data reveals that in the last few years the population of motorcycles and related vehicle types has risen dramatically. In turn, the crash data for motorcycles has shown dramatic increase due to many factors including, but not limited to, rider experience, rider impairment, decreased use of helmets, and increased exposure. Exposure is a statistical term of reference that indicates increasing performance of a given activity yields an increase in the chance that some related event will occur, in this case crashes related to motorcycle riding activity will occur.

Data from the National Highway Traffic Safety Administration's (NHTSA) Fatality Analysis Reporting System (FARS) ³ indicated in 2009, motorcycle rider fatalities decreased for the first time after 11 consecutive years of increases: From 2,116 in 1997 to 5,312 in 2008, and then down to 4,462 in 2009. Other trends include a dramatic rise in motorcycle ownership and changes in other factors such as motorcycle size and new designs for these vehicles. However, this increase in fatality data is disproportionate to reported increases in motorcycle registration and in reported miles traveled. Due to this disconnect, safety advocates have encouraged improving the data collection process in order to better analyze and identify rider exposure and crash causality.

³ FARS data can be viewed at: http://www-fars.nhtsa.dot.gov/Main/index.aspx.

On October 3, 2007, the National Transportation Safety Board (NTSB) sent a letter to FHWA containing an NSTB Safety Recommendation H-07-34, which states:

Following the 2007 Motorcycle Travel Symposium, develop guidelines for the states to use to gather accurate motorcycle registrations and motorcycle vehicle miles traveled data. The guidelines should include information on the various methods to collect registrations and vehicle miles traveled data and how these methods can be put into practice.

The FHWA is committed to improving both sets of data identified in the NTSB safety recommendation. This final notice addresses the NTSB recommendation to gather more accurate motorcycle registration data. To achieve this goal, FHWA established an interagency review team consisting of experts from FHWA's Offices of Safety and Research, and various NHTSA offices, to assist in the following activities:

1. Review State laws to determine the State of practice for motorcycle registrations by documenting State laws and practices;

2. Improve the definition of motorcycles in the Guide to Reporting Highway Statistics;

3. Develop guidelines for the States to use to gather and report more accurate motorcycle registration data;

4. Include information on the various methods to collect and report registrations in the guidelines; and

5. Initiate actions to bring the best methods in wider practice.

The FHWA is seeking to provide better registration data for other agencies and the general public to analyze motorcycle crash data. For FHWA, the issue is two-fold: FHWA must provide the States complete and comprehensive instructions on the data FHWA needs to collect to perform its responsibilities, and FHWA must work with the States to assure that they are providing accurate data to the extent that they can in accordance with FHWA instructions. A corollary to both issues is that FHWA's instructions should allow the States to provide the data that they actually collect and not to demand data that they do not already gather.

The FHWA will refine its definition of motorcycles and related two- and three-wheeled vehicles to better differentiate motorcycles, mopeds and motor scooters. This document was coordinated with NHTSA. As indicated above, this document addresses State reporting of motorcycle registration information. It should be understood that the definitions used for reporting purposes do not comport in all particulars with the definitions used by NHTSA. For example, NHTSA has specific definitions for “motorcycle” and “motor driven cycle” as part of the Federal motor vehicle safety standards (FMVSSs) (see 49 CFR 571.3). The issue of whether a product is considered a motorcycle for purposes of the FMVSSs is dependent on NHTSA's regulations and the statutes administered by NHTSA. Any questions about motorcycles in the context of NHTSA's regulations or programs should be directed to NHTSA.

Reference Material

The Guide to Reporting Highway Statistics is FHWA's guidance to the States for reporting a variety of data items, including two categories of motorcycles: Motorcycles and motorized bicycles.

The American National Standards Institute (ANSI) D 16.1 ⁴ defines a motorcycle as any motor vehicle having a seat or saddle for the use of its operator and designed to travel on not more than three wheels in contact with the ground. This includes large motorcycles, motor-driven cycles, speed limited motor-driven cycles, mopeds, motor scooters, and motorized or motor assisted bicycles.

⁴ American National Standards Institute, http://webstore.ansi.org.

The definitions of motorcycle type vehicles found in 49 CFR 571.3 state that:

Motorcycle means a motor vehicle with motive power having a seat or saddle for the use of the rider and designed to travel on not more than three wheels in contact with the ground.

Motor-driven cycle means a motorcycle with a motor that produces 5-brake horsepower or less.

The Model Minimum Uniform Crash Criteria (MMUCC) ⁵ defines a motorcycle as a two- or three-wheeled motor vehicle designed to transport one or two people. Included are motor scooters, mini-bikes, and mopeds.

⁵ Model Minimum Uniform Crash Criteria: http://www.mmucc.us/.

The FARS and National Automotive Sampling System (NASS) General Estimates System (GES) follows the ANSI D 16.1 definition. The FARS and GES data are used in traffic safety analyses by NHTSA as well as other public and private entities. The information is used to estimate how many motor vehicle crashes of different kinds take place, and is also used in the analyses by researchers and highway safety professionals in order to determine the factors involved in the crashes.

Discussion of Comments

The comment period opened on March 23, 2010, and closed on June 24, 2010. Ninety-six comments were received.

Commenters on the notice fell into several categories: An organization representing States and State registration administrators, individual States, a major private manufacturer, individuals representing motorcycle “clubs,” and many individuals. Commenters addressed a range of subjects.

Concerns About Varied Motorcycle Definitions

The American Association of Motor Vehicle Administrators, (AAMVA), listed a number of vehicle characteristics for which there are discrepancies among States' motorcycle definitions. Some States require a motorcycle to have a seat that the rider straddles, while others do not. Some State laws allow a steering wheel. Other States do not specify, meaning they do not restrict registration to vehicles with handlebars. Many States do not include a requirement for wheel rim diameters exceeding 10 inches. Many States do not disqualify vehicles with a full enclosure for rider or passenger. Most States do not regard sidecars as separate vehicles, although most States would consider a trailer a separate vehicle and may require a separate registration. In terms of mopeds, the same difficulties exist regarding the characteristics of a seat, saddle, and steering handle as those noted for motorcycles. The AAMVA also noted that some States do not require mopeds to have pedals, and that many do not have a brake horsepower requirement in their definition.

A number of commenters discussed problems that may arise due to the different State laws and regulations classifying motorcycles and other similar vehicles. Some of these commenters expressed concerns about vehicles that would not fit any of FHWA's proposed definitions and therefore would be left without a means for certification for road and highway use. Enclosed and three-wheeled vehicles are of primary concern, because some States do not classify them as motorcycles. Therefore, if the new definitions exclude them from the definition of motorcycle, States will need to create new regulations to certify these types of vehicles for driving. Additionally, a commenter from Oregon stated that a handlebar requirement for motorcycles would leave certain vehicles in Oregon without a classification for registration. Some commenters also addressed the need to keep these smaller fuel-efficient vehicles on the road, both for energy conservation reasons and to allow individuals with disabilities or older individuals an option for driving similar to the experience of motorcycling.

Some commenters noted that new definitions are necessary due to the proliferation of new vehicle types and the unintended consequences of misclassification. Harley Davidson Motor Company (HDMC) stated that the need to revise the regulations is timely as many new motorcycle-type vehicles are reaching the market and traditional definitions do not address these newer vehicles. One commenter stated that new regulations are needed because classifying mopeds and scooters as motorcycles leads to increased theft because it may require that these lighter weight vehicles be parked on the street.

The FHWA's intent is to provide guidance in the form of suggested categories to address the proliferation of motorcycle vehicle types for data collection and analysis purposes. The FHWA recognizes the wide variation of vehicles that are primarily described as motorcycles, and does not want to impose rigid definitions. Rather, FHWA is organizing a set of definitions more specific than the existing, general descriptions of motorcycles to improve State data reporting.

Reporting and Registration Concerns: New Classifications

States expressed concerns about the administrative, logistical and financial burdens of providing information based on the updated guidance. The Florida Department of Highway Safety and Motor Vehicles, (FDHSMV) referred to Bill 971, which was recently passed by the Florida legislature and includes a definition for three-wheeled vehicles. The FDHSMV suggested adding a category for three-wheeled vehicles to accommodate the Florida classification. A commenter stated that Oregon currently registers mopeds, but not motor scooters or motor-assisted bicycles and that legislation would be required to change this. The Washington Department of Licensing (WDOL) only records and reports registrations for two classifications: Motorcycles and mopeds. The Washington State Department of Transportation does not have a means to determine which mopeds would be categorized as cycles or scooters under FHWA's new categories. Accordingly, the WDOL estimated that the cost of updating their computers to process the information included in the new guidance would be over $620,000 in the first year. The WDOL also pointed out that unless FHWA requires manufacturers to report the new information required for categorization on the Manufacturer's Statement of Origin or the Manufacturer's Certificate of Origin, there is no mechanism for WDOL to collect the data.

The FHWA recognizes that some States may incur significant costs if they choose to adopt the new definitions provided in FHWA's guidance. However, this guidance is not mandatory, therefore, States may avoid incurring any costs by continuing to collect and provide motorcycle data according to their own existing legislative guidelines. If a State determines that the costs outweigh the benefits of adopting the new definitions, then the State may continue to provide motorcycle data according to their own existing definitions.

Reporting Concerns: Vehicle Identification Numbers (VINs)

The Insurance Institute for Highway Safety, (IIHS), supports the use of VINs for reporting vehicle information. The IIHS has grouped street legal motorcycles into 10 different classes: Scooter, cruiser, chopper, touring, dual purpose, standard, sport touring, unclad sport, sport, and super sports. These classifications consider design characteristics such as intended use, riding position, engine power, passenger comfort, and cost. Statistical analyses performed on this data by IIHS and the Highway Loss Data Institute (HLDI), an affiliate of IIHS, which was derived from VINs, revealed substantial differences in accident data of these vehicle classifications. The IIHS stated that using VINs will create the opportunity for more sophisticated classification of motorcycle types than the limited categories in the Guide. Therefore, using VINs will increase FHWA's ability to assess the safety risks of new types of vehicles as they are used and enter the market. Additionally, IIHS stated that VIN information may be easier for many States to provide than vehicle classification.

The FHWA agrees that studies done by both the HLDI and the IIHS establish the important conclusion that motorcycle classifications reveal differing accident characteristics. The HLDI has offered to license the software or provide the service to FHWA free of charge. The FHWA appreciates this offer, and may pursue this cooperative research outside the scope of this notice.

The FDHSMV commented that collecting VIN information would put a substantial burden on the States. Additionally, AAMVA, and the FDHSMV, questioned the value of reporting VIN information, stating that VINs for motorcycles are far less standardized than VINs for cars and trucks.

Commenters also cited privacy concerns associated with collecting VINs and possible violations of the Drivers Privacy Protection Act.

The FHWA concurs with the view that collecting VINs from the States would incur significant costs to the States and FHWA and the benefits of this approach are not worth the cost of collection. By not collecting VINs, FHWA will avoid potential privacy concerns raised in the comments.

Safety Issues

Some comments addressed safety issues. Some stated that the lack of safety features such as airbags and sidecars is a necessary requirement for motorcycles, because simple two-wheeled vehicles do not require the additional complexity of safety features. Additionally, some commenters felt that seatbelts or other restraints should not be included in the definition of a motorcycle, because in the event of a crash on that type of vehicle the operator and the vehicle should part ways for safety reasons. One commenter suggested that helmets should not be required for enclosed three-wheeled vehicles that pass safety tests.

An individual representing the American Automobile Association stated that the skill set for driving a three-wheeled vehicle is different from the skill set required for driving a motorcycle. Therefore, any attempt to make two- and three-wheeled vehicle definitions all-inclusive for the new generation of three-wheeled vehicles potentially endangers the public.

One commenter suggested that a distinction should be made between on-road and off-road vehicles, because off-road vehicles may have features that make them more dangerous in the event of an accident, such as being low to the ground. Additionally, according to this commenter, operators of off-road vehicles may be more inclined to ignore the rules of the road than operators of on-road vehicles.

These comments are outside the scope of this notice, as FHWA is not considering safety features or handling characteristics as descriptors in the definition of motorcycle types. State registrations and FHWA characteristics are based on the physical appearance of the vehicles.

International Classification System

The HDMC advocates synchronizing FHWA vehicle classes with classes used internationally, specifically with the United Nations Economic Commission for Europe's classification scheme. The FHWA researched the suggested United Nations Economic Commission for Europe standards and concludes that they suffer from the same lack of detail that makes FHWA's current definitions insufficient.

Request for a Committee

The American Motorcyclist Association requested that FHWA create a Motorcycle Definition Committee with representatives from FHWA and State departments of transportation to overhaul the current definition(s) of motorcycles and similar vehicles. The FHWA believes the request for comments on this notice was sufficient notification and that comments to the docket are sufficient for FHWA to understand the issues involved.

Enclosed Vehicles

The AAMVA stated that States are currently struggling with how to register enclosed two- and three-wheel vehicles, as well as how best to test the drivers on their ability to drive those vehicles. AAMVA is working to create a group to consider these issues, though some States would already consider enclosed vehicles to be motorcycles because they have no specific definition or requirements related to whether the vehicle is enclosed or not. The AAMVA noted that most States would currently consider three-wheeled vehicles that are small, lightweight, and not enclosed motorcycles for registration purposes. These States most likely could not distinguish them from other motorcycles for purposes of reporting to FHWA. The FHWA agrees and has decided to incorporate a separate category to capture these vehicles.

Steering Mechanisms

The HDMC notes that while steering handlebars are traditional for motorcycles, the newer categories of motorcycles may have other steering mechanisms, and they recommend that FHWA remove handlebars as a motorcycle-defining characteristic. An individual representing the ABATE (A Brotherhood Against Totalitarian Enactments) organization of Maryland recommended that the definition of motorcycle require handlebars. Additionally, a commenter from Oregon stated that requiring handlebars for motorcycles would leave certain vehicles in Oregon without a classification for registration. The FHWA concurs with HDMC and will remove the handlebar characteristic from the motorcycle classification.

Opinions on Motorcycle Definitions Generally

There were a number of comments by individuals representing organizations expressing their opinions on the definition of a motorcycle. The Vice-Chair of Oregon Governors' Advisory Commission on Motorcycle Safety stated that a traditional motorcycle is a single-track vehicle that is directed by a combination of counter-steering and leaning, primarily the former, and a three wheel vehicle requires neither. An individual representing the Minnesota Motorcycle Safety Advisory Committee defined a motorcycle as a vehicle powered entirely by a motor with two or three wheels, handlebars and without a roof. These two comments are addressed in FHWA's motorcycle definition.

An individual representing the ABATE organization of Maryland stated that the new definition of a motorcycle should be broken down into three types: Two wheels, three wheels (“trikes,” whether the two-wheeled axle is in front or in back), and four wheel all terrain vehicles (ATV or quad bike). Motorcycles would have the following traits: Handlebars rather than a steering wheel, no side by side seating for passengers, and the rider in a straddle position when riding. The FHWA considered these vehicle characteristics in its typology, removed the handlebar requirement as noted above, and did not exclude side-by-side seating, which may or may not be a characteristic of a motorcycle with an enclosure. The FHWA does not include four-wheeled vehicles in this motorcycle typology, as a four-wheeled vehicle licensed for highway use would in popular usage be described as an automobile and not a motorcycle.

The Motorcycle Industry Council proposed that the moped and motor bicycle classification vehicle engine size should not exceed 2 brake horsepower, rather than 5 brake horsepower as proposed, which they stated applies specifically to a “motor-driven cycle.” The FHWA agrees and has incorporated this recommendation into the moped and motor bicycle typology because horsepower is a useful distinguishing characteristic between mopeds and the more powerful motorcycles.

The HDMC made specific comments on FHWA's proposed definitions. FHWA concurs with HDMC's comment advocating removing handlebars as a motorcycle-defining characteristic as discussed above. The HDMC does not consider either a seat or saddle for driver and passengers nor a wheel diameter suitable defining characteristics. The FHWA considers both wheel diameter and seat arrangements appropriate defining characteristics. The FHWA has changed the wheel diameter characteristic to wheel rim diameter to better define wheel diameter.

The HDMC also stated that the distinction between motorcycles, mopeds, and scooters is best made by distinguishing vehicles by design speed (such as 30 miles per hour), rather than by vehicle physical appearance. This concept has merit; vehicles used on the streets and highways that have insufficient power to keep up with normal traffic should not be registered for highway use. In those conditions they are unsafe and highly disruptive to normal traffic flow. However, it will be difficult to determine the level of speed that constitutes a defining characteristic agreeable to the various stakeholders.

Many individuals commenting on their own behalf expressed strong opinions on the definitions of motorcycles, often demonstrating their passion for motorcycles and the motorcycle community. The majority of individual commenters to the docket agreed that motorcycles are a two-wheeled, powered vehicle for one or two people. For example, an individual wrote that motorcycles should “include all two wheeled vehicles that the rider sits straddled the frame/motor or fuel tank with passenger seating also straddled and behind the rider.” The FHWA believes this wording is overly specific and is not normally used by States as distinguishing characteristics, and therefore does not include them in the definition. Some individuals suggested that the definition of motorcycle include all motorcycle type vehicles, with multiple subdefinitions, to avoid certification and registration issues. The FHWA concurs and believes the typology used in FHWA notice adequately addresses this comment.

Beyond these comments, the comments on motorcycle characteristics and attributes varied widely. The FHWA considered these comments. However, these comments failed to address a comprehensive typology of motorcycle and like vehicles, which was the focus of FHWA's request for comments. Many of these comments are incorporated into FHWA's modified categories. The remainder represented differing opinions such that no consistent conclusions could be drawn from them. None of these individual comments offered a considered, complete description of motorcycle types. The FHWA concludes that these comments are sufficiently incorporated into FHWA's modified definitions.

The current language for defining motorcycles in FHWA's Guide to Reporting of Highway Statistics (Chapter 3, Report Identifying Motor Vehicle Registration and Taxation, page 3-2) is as follows:

Item I.E.2. Motorcycles: This item includes two-wheeled and three-wheeled motorcycles. Sidecars are not regarded as separate vehicles— a motorcycle and sidecar are reported as a single unit.

Item I.E.3. Motor bicycles and scooters: Mopeds should be included with motor-driven cycles (motor bicycles) in the States that require their registration.

Based on the comments received, the current language for defining motorcycles in FHWA's Guide to Reporting of Highway Statistics (Chapter 3, Report Identifying Motor Vehicle Registration and Taxation, page 3-2) is updated as follows:

Item I.E.2. Motorcycles (without enclosures): This item includes vehicles with the following characteristics:

1. Two or three wheels in contact with the ground (excluding trailers suitable for motorcycle hauling)

2. A seat or saddle for driver and passengers

3. Wheel rim diameters 10 inches or more

4. Do not include an enclosure for the driver or passengers

5. Sidecars and trailers are not regarded as separate vehicles— a motorcycle and sidecar or trailer is reported as a single unit.

Item I.E.3. Motorcycles (with enclosures): This item includes vehicles with the following characteristics:

1. Two or three wheels in contact with the ground (excluding trailers suitable for motorcycle hauling)

2. A seat or saddle (in-line or side-by-side) for driver and passengers

3. Wheel rim diameters 10 inches or more

4. Includes an enclosure for the driver or passengers

5. Sidecars and trailers are not regarded as separate vehicles—a motorcycle and sidecar or trailer is reported as a single unit.

Item I.E.4 Mopeds or motor bicycles: This item includes vehicles with the following characteristics:

1. Two wheels in contact with the ground

2. A seat or saddle for driver and passengers (if any)

3. A steering handle bar

4. Do not include an enclosure for the driver or passengers

5. Have a brake horsepower not exceeding 2 HP.

Item I.E.5 Personalized conveyances licensed for highway use: This item includes vehicles with the following characteristics:

1. Two wheels in contact with the ground

2. Has a platform or deck for the use of a standing operator

3. A steering handle bar

4. Do not include an enclosure for the driver or passengers

5. Have a brake horsepower not exceeding 2 HP.

6. Have a direct drive energy transmission from the engine to the drive wheel(s) (no transmission).

Issued on: April 20, 2011.
Victor M. Mendez,
Administrator.

[FR Doc. 2011-10258 Filed 4-27-11; 8:45 am]

BILLING CODE 4910-22-P